DEPARTMENT OF HOMELAND SECURITY

Bureau of Customs and Border Protection

Automated Commercial Environment (ACE): National Customs Automation Program Test Of Automated Truck Manifest for Truck Carrier Accounts; Deployment Schedule

AGENCY: Customs and Border Protection; Department of Homeland Security.

ACTION: General notice.

SUMMARY: The Bureau of Customs and Border Protection, in conjunction with the Department of Transportation, Federal Motor Carrier Safety Administration, is currently conducting a National Customs Automation Program (NCAP) test concerning the transmission of automated truck manifest data. This document announces the next groups, or clusters, of ports to be deployed for this test.

DATES: The ports identified in this notice, in the state of New York, are expected to deploy no earlier than the dates provided in this notice, all of which are between the months of July and August, 2006. Comments concerning this notice and all aspects of the announced test may be submitted at any time during the test period.

FOR FURTHER INFORMATION CONTACT: Mr. James Swanson via e-mail at james.d.swanson@dhs.gov.

SUPPLEMENTARY INFORMATION:

Background

The National Customs Automation Program (NCAP) test concerning the transmission of automated truck manifest data for truck carrier accounts was announced in a General Notice published in the Federal Register (69 FR 55167) on September 13, 2004. That notice stated that the test of the Automated Truck Manifest would be conducted in a phased approach, with primary deployment scheduled for no earlier than November 29, 2004.

A series of Federal Register notices have announced the implementation of the test, beginning with a notice published on May 31, 2005 (70 FR 30964). As described in that document, the deployment sites have been phased in as clusters. The ports identified belonging to the first cluster were announced in the May 31, 2005, notice. Additional clusters were announced in subsequent notices published in the Federal Register including: 70 FR 43892, published on July 29, 2005; 70 FR 60096, published on October 14, 2005; 71 FR 3875, published on January 24, 2006; and 71 FR 23941, published on April 25, 2006.

New Clusters

Through this notice, CBP announces that the next clusters of ports to be brought up for purposes of deployment of the test will be in the state of New York. The test will be deployed no earlier than June 22, 2006, in the Champlain Service Port at the port of entry of Champlain and the following crossings: Cannon's Corner, Mooers, Overton's Corner, and Rouses Point. The test will be deployed no earlier than July 10, 2006, at the following ports of entry: Alexandria Bay, Ogdensburg, Massena, and Trout River; and the following crossings: Chateaugay, Churubusco, Fort Covington, and Jamieson's Line. Also no earlier than July 10, 2006, the test will be deployed at the Peace Bridge in the Service Port of Buffalo. No earlier than August 12, 2006, the test will be deployed at the Lewiston Bridge in the Service Port of Buffalo.

Previous NCAP Notices Not Concerning Deployment Schedules

On Monday, March 21, 2005, a General Notice was published in the Federal Register (70 FR 13514) announcing a modification to the NCAP test to clarify that all relevant data elements are required to be submitted in the automated truck manifest submission. That notice did not announce any change to the deployment schedule and is not affected by publication of this notice. All requirements and aspects of the test, as set forth in the September 13, 2004 notice, as modified by the March 21, 2005 notice, continue to be applicable.

Dated: July 18, 2006.
Jayson P. Ahern,
Assistant Commissioner, Office of Field Operations.

[FR Doc. E6-11849 Filed 7-24-06; 8:45 am]

BILLING CODE 9111-14-P